NATIONAL SCIENCE FOUNDATION

Proposal Review Panel for Computing and Communication Foundations; Notice of Meeting

In accordance with the Federal Advisory Committee Act (Pub. L. 92-463, as amended), the National Science Foundation (NSF) announces the following meeting:

Name and Committee Code: Proposal Review Panel for Computing and Communication Foundations (#1192)—CSoI (Purdue University) Reverse Site Visit.

Date and Time: November 29, 2017; 8:00 a.m.-6:00 p.m.

November 30, 2017; 9:00 a.m.-3:00 p.m.

Place: Virginia Tech Research Center, 900 Glebe Road, Arlington, VA.

Type of Meeting: Part-Open.

Contact Person: Phillip Regalia, National Science Foundation, 2415 Eisenhower Avenue, Alexandria, VA, 22314; Telephone: (703) 292-8910.

Purpose of Meeting: Site visit to assess the progress of the STC Award: CCF-0939370, “Emerging Frontiers of Science of Information”, and to provide advice and recommendations concerning further support for the project.

Agenda

Wednesday, November 29, 2017; 8:00 a.m.-6:00 p.m.

8:00 a.m. to 6:00 p.m.: OPEN

Presentations by Awardee Institution, faculty staff and students, to Site Team and NSF Staff. Discussions and question and answer sessions.

Thursday, November 30, 2017; 9:00 a.m.-3:00 p.m.

9:00 a.m.-3:00 p.m.: CLOSED

Response and feedback to presentations by Site Team and NSF Staff. Discussions and question and answer sessions. Draft report on education and research activities. Complete written site visit report with preliminary recommendations.

Reason for Closing: The work being reviewed during closed portions of the site review include information of a proprietary or confidential nature, including technical information; financial data, such as salaries; and personal information concerning individuals associated with the review. These matters are exempt under 5 U.S.C. 552b(c), (4) and (6) of the Government in the Sunshine Act.

Dated: October 4, 2017.
Crystal Robinson,
Committee Management Officer.

[FR Doc. 2017-21789 Filed 10-10-17; 8:45 am]

BILLING CODE 7555-01-P